DEPARTMENT OF THE INTERIOR

Bureau of Land Management

[LLNMP02000 16100000.DN0000]

Notice of Intent To Prepare a Resource Management Plan for the Carlsbad Field Office, New Mexico and Associated Environmental Impact Statement

AGENCY: Bureau of Land Management, Interior.

ACTION: Notice of Intent.

SUMMARY: In compliance with the National Environmental Policy Act of 1969, as amended, (NEPA), and the Federal Land Policy and Management Act of 1976, as amended, (FLPMA), the Bureau of Land Management (BLM) Carlsbad Field Office, Carlsbad, New Mexico, intends to prepare a Resource Management Plan (RMP) with an associated Environmental Impact Statement (EIS) for the Carlsbad Field Office and by this notice is announcing the beginning of the scoping process to solicit public comments and identify issues. The RMP will replace the existing 1988 Carlsbad RMP.

DATES: This notice initiates the public scoping process for the RMP and the associated EIS. In order to be included in the Draft EIS, comments on issues and planning criteria may be submitted in writing by any of the methods described in the ADDRESSES section below, until July 12, 2010 (the 30-day scoping period). Alternatively you may submit comments at any public scoping meeting or 30 days after the last public meeting, whichever is later. The date(s) and location(s) of any scoping meetings will be announced at least 15 days in advance through local media, newspapers, and at the following BLM Web site: http://www.blm.gov/nm/st/en/fo/Carlsbad_Field_Office.html. We will provide additional opportunities for public participation upon publication of the Draft EIS.

ADDRESSES: You may submit comments on issues and planning criteria by any of the following methods:

• Web site: http://www.blm.gov/nm/st/en/fo/Carlsbad_Field_Office.html.

• E-mail: nm_cfo_rmp@blm.gov.

• Fax: 575-885-9264.

• Mail: BLM, Carlsbad Field Office, RMP Project Manager, 620 E. Greene St., Carlsbad, New Mexico 88220.

Documents pertinent to this proposal may be examined at the Carlsbad Field Office.

FOR FURTHER INFORMATION CONTACT: For further information and/or to have your name added to our mailing list, contact James B. Smith, Planning and Environmental Coordinator, telephone 575-234-5986; address BLM, Carlsbad Field Office, Attention: James B. Smith, 620 E. Greene St., Carlsbad, New Mexico 88220; e-mail James_B_Smith@blm.gov.

SUPPLEMENTARY INFORMATION: This document provides notice that the BLM Carlsbad Field Office, New Mexico, intends to prepare an RMP with an associated EIS for the Carlsbad Field Office, announces the beginning of the scoping process, and seeks public input on issues and planning criteria. The planning area is located in Eddy, Lea, and Chaves counties, New Mexico, and encompasses approximately 2.2 million surface acres of public land and 4.1 million acres of mineral estate (1.9 million acres is split estate). The purpose of the public scoping process is to determine relevant issues that will influence the scope of the environmental analysis, including alternatives, and guide the planning process. Preliminary issues for the planning area have been identified by BLM personnel, Federal, state, and local agencies, and other stakeholders. The issues include:

1. What management actions, best management practices (BMP), and mitigation measures are necessary to protect or enhance resources, such as: visual resources, air quality, groundwater and karst aquifers, watersheds and riparian areas, recreational areas, wilderness areas, vegetation, soils, cultural sites, cave/karst, specially designated areas, wildlife habitat, and rangeland health?

2. What areas should be identified as open, limited, or closed to travel to meet resource and recreational demands? What major roads and ways should be identified in the transportation management plan for closure and reclamation?

3. How should the BLM facilitate energy development, both renewable and non-renewable, while allowing for multiple uses and appropriate protection of public lands and resources?

4. How should the RMP facilitate rights-of-ways within the planning area through designation of exclusion and avoidance areas, stipulations, BMPs, and mitigation measures while balancing the need to protect sensitive resources?

5. How should the RMP address new technologies such as potash solution mining?

6. What public lands should be identified for retention, withdrawal, disposal (e.g., parcels, historic landfill sites) or acquisition?

7. What management actions, BMPs, and mitigation measures will be necessary to reduce impacts to reclaimed and restored lands?

Preliminary Planning Criteria Include:

1. The RMP will be in compliance with FLPMA, NEPA, and all other applicable laws and regulations;

2. Land use decisions in the RMP will apply to the surface and subsurface estate managed by the BLM;

3. The RMP process will follow BLM policies in the Land Use Planning Handbook, H-1601-1;

4. Public participation and collaboration will be an integral part of the planning process;

5. The BLM will strive to make decisions in the plan compatible with the existing plans and policies of adjacent local, state, and Federal agencies and local American Indian tribes, as long as the decisions are consistent with the purposes of the Federal laws, policies, and programs applicable to public lands;

6. The RMP will recognize valid existing rights;

7. The RMP will incorporate, where applicable, management decisions brought forward from existing planning documents;

8. The BLM will work cooperatively and collaboratively with cooperating agencies and all other interested groups, agencies, and individuals;

9. The planning process will provide for ongoing consultation with American Indian tribes and strategies for protecting recognized traditional uses;

10. Where practicable and timely for the planning effort, the best available scientific information, research, and new technologies will be used; and

11. Planning decisions must comply with all applicable regulations and must be reasonably achievable, and allow for flexibility while supporting adaptive management principles.

The Preparation Plan developed for the RMP Revision is available on the Carlsbad Field Office Web site. This document contains pertinent and descriptive information regarding planning issues, management concerns, planning criteria and scheduling. Please refer to this document for the detailed list of planning issues and criteria.

You may submit comments on issues and planning criteria in writing to the BLM at any public scoping meeting, or you may submit them to the BLM using one of the methods listed in the ADDRESSES section above. To be most helpful, you should submit comments by the close of the 30-day scoping period or within 30 days after the last public meeting, whichever is later. Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan;

2. Issues to be resolved through policy or administrative action; or

3. Issues beyond the scope of this plan.

The BLM will provide an explanation in the Draft RMP/EIS as to why an issue was placed in category two or three. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: Wildlife and fisheries, threatened and endangered species, vegetation and native plants, riparian and wetlands, invasive and noxious weeds, rangeland management, fire and fuels management, cultural resources and Native American concerns, paleontology, geology and fluid minerals, lands and realty, outdoor recreation, hydrology, soils, visual resource management, wilderness, wild and scenic rivers, sociology and economics, and forest management.

Authority: 40 CFR 1501.7; 43 CFR 1610.2

Linda S.C. Rundell,
State Director.

[FR Doc. 2010-13949 Filed 6-9-10; 8:45 am]

BILLING CODE 4310-OX-P